FEDERAL COMMUNICATIONS COMMISSION

47 CFR Part 2

[ET Docket No. 19-289, WT Docket No. 17-200; DA 19-1326; FCC 20-67; FRS 17094]

Table of Frequency Allocations

AGENCY: Federal Communications Commission.

ACTION: Final rule; technical amendment.

SUMMARY: The Federal Communications Commission (Commission) previously published two documents revising portions of the Table of Frequency Allocations (Allocation Table). Because of the way the Allocation Table pages were printed in the Federal Register, they cannot be displayed in the CFR. This technical amendment corrects that printing error by republishing the affected pages. There is no new regulatory action involved; this is only a correction of a previous misprinting.

DATES: This technical amendment is effective October 1, 2020.

FOR FURTHER INFORMATION CONTACT: Tom Mooring, Office of Engineering and Technology, Policy and Rules Division, (202) 418-2450 or Tom.Mooring@fcc.gov.

SUPPLEMENTARY INFORMATION: The Federal Communications Commission recently published two documents in the Federal Register, each of which made revisions to the Table of Frequency Allocations (Allocation Table). The first publication, on June 26, 2020 (85 FR 38630), made non-substantive, editorial revisions to the Table of Frequency Allocations (Allocation Table) and to various other Commission rules. Within that document, the following pages of the Allocation Table were published in a way that they could not be accurately displayed in the Code of Federal Regulations (CFR): 7-9, 19, 22-27, 29-34, and 38-68. Pages 52 and 53 were subsequently overwritten by a publication on July 24, 2020 (85 FR 44772) and published in a way that they could be accurately displayed in the CFR. The second publication, on July 16, 2020 (85 FR 43124), adopted rules for broadband license operations in the 897.5-900.5/936.5-939.5 MHz segment of the 900 MHz band (896-901/935-940 MHz), which necessitated a change to the Allocation Table. Within that document, pages 31 and 32 of the Allocation Table were published in a way that they could not be accurately displayed in the CFR. These pages replaced pages 31 and 32 that had been modified by 85 FR 38630. Finally, we correct the placement of footnote US64 in the 456-459 MHz band within the Federal Table, i.e., we place US64 in ascending numerical order. There is no new regulatory action involved in these revisions; the technical amendment only changes how the affected Allocation Table pages (7-9, 19, 22-27, 29-34, 38-51, and 54-68) are displayed.

List of Subjects in 47 CFR Part 2

Telecommunications.

Federal Communications Commission.
Marlene Dortch,
Secretary.

Final Rules

For the reasons discussed in the preamble, the Federal Communications Commission amends 47 CFR part 2 as follows:

PART 2—FREQUENCY ALLOCATIONS AND RADIO TREATY MATTERS; GENERAL RULES AND REGULATIONS

1. The authority citation for part 2 continues to read as follows:

Authority: 47 U.S.C. 154, 302a, 303, and 336, unless otherwise noted.

2. Section 2.106 is amended by revising pages 7 through 9, 19, 22 through 27, 29 through 34, 38 through 51, and 54 through 68 to read as follows:

§ 2.106 Table of Frequency Allocations.

* * * * *

BILLING CODE 6712-01-P

* * * * *

* * * * *

* * * * *

* * * * *

* * * * *

[FR Doc. 2020-21178 Filed 9-30-20; 8:45 am]

BILLING CODE 6712-01-C